DEPARTMENT OF HOMELAND SECURITY

Federal Emergency Management Agency

[Docket ID FEMA-2018-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: March 22, 2018.
Roy E. Wright,
Deputy Associate Administrator for Insurance and Mitigation, Department of Homeland Security, Federal Emergency Management Agency.

State and county | Location and case No. | Chief executive officer of community | Community map repository | Date of modification | Community No.
Alaska: Anchorage (FEMA Docket No.: B-1756) | Municipality of Anchorage (17-10-0709P) | The Honorable Ethan Berkowitz, Mayor, Municipality of Anchorage, 632 West 6th Avenue Suite 840, Anchorage, AK 99501 | City Hall, 632 West 6th Avenue, Anchorage, AK 99501 | Jan. 12, 2018 | 020005
Arizona:
Maricopa (FEMA Docket No.: B-1760) | City of Avondale (17-09-1266P) | The Honorable Kenn Weise, Mayor, City of Avondale, 11465 West Civic Center Drive, Avondale, AZ 85323 | Development & Engineering Services Department, 11465 West Civic Center Drive, Avondale, AZ 85323 | Jan. 26, 2018 | 040038
Maricopa (FEMA Docket No.: B-1760) | City of Scottsdale (17-09-0349P) | The Honorable W.J. “Jim” Lane, Mayor, City of Scottsdale, City Hall, 3939 North Drinkwater Boulevard, Scottsdale, AZ 85251 | Planning Records, 7447 East Indian School Road, Suite 100, Scottsdale, AZ 85251 | Jan. 26, 2018 | 045012
Maricopa (FEMA Docket No.: B-1760) | Town of Paradise Valley (17-09-0349P) | The Honorable Michael Collins, Mayor, Town of Paradise Valley, 6401 East Lincoln Drive, Paradise Valley, AZ 85253 | Town Hall, 6401 East Lincoln Drive, Paradise Valley, AZ 85253 | Jan. 26, 2018 | 040049
Maricopa (FEMA Docket No.: B-1765) | Unincorporated Areas of Maricopa County (17-09-0882P) | The Honorable Denny Barney, Chairman, Board of Supervisors, Maricopa County, 301 West Jefferson Street, 10th Floor, Phoenix, AZ 85003 | Flood Control District of Maricopa County, 2801 West Durango Street, Phoenix, AZ 85009 | Feb. 9, 2018 | 040037
Maricopa (FEMA Docket No.: B-1760) | Unincorporated Areas of Maricopa County (17-09-1266P) | The Honorable Denny Barney, Chairman, Board of Supervisors, Maricopa County, 301 West Jefferson Street, 10th Floor, Phoenix, AZ 85003 | Flood Control District of Maricopa County, 2801 West Durango Street, Phoenix, AZ 85009 | Jan. 26, 2018 | 040037
California:
Los Angeles (FEMA Docket No.: B-1760) | City of Calabasas (17-09-0821P) | The Honorable Mary Sue Maurer, Mayor, City of Calabasas, 100 Civic Center Way, Calabasas, CA 91302 | City Hall, 100 Civic Center Way, Calabasas, CA 91302 | Feb. 5, 2018 | 060749
Napa (FEMA Docket No.: B-1760) | Unincorporated Areas of Napa County (17-09-0456P) | The Honorable Belia Ramos, Chair, Board of Supervisors, Napa County, 1195 3rd Street, Suite 310, Napa, CA 94559 | Napa County Public Works Department, 1195 3rd Street, Suite 201, Napa, CA 94559 | Feb. 9, 2018 | 060205
Riverside (FEMA Docket No.: B-1756) | City of Corona (17-09-0805P) | The Honorable Dick Haley, Mayor, City of Corona, 400 South Vicentia Avenue, Corona, CA 92882 | City Hall, 400 South Vicentia Avenue, Corona, CA 92882 | Jan. 19, 2018 | 060250
Riverside (FEMA Docket No.: B-1760) | City of Corona (17-09-1498P) | The Honorable Dick Haley, Mayor, City of Corona, 400 South Vicentia Avenue, Corona, CA 92882 | City Hall, 400 South Vicentia Avenue, Corona, CA 92882 | Feb. 1, 2018 | 060250
Riverside (FEMA Docket No.: B-1756) | Unincorporated Areas of Riverside County (17-09-0805P) | The Honorable John F Tavaglione, Chairman, Board of Supervisors, Riverside County, 4080 Lemon Street, 5th Floor, Riverside, CA 92501 | Riverside County Flood Control and Water Conservation District, 1995 Market Street, Riverside, CA 92502 | Jan. 19, 2018 | 060245
Sacramento (FEMA Docket No.: B-1756) | Unincorporated Areas of Sacramento County (16-09-2857P) | The Honorable Don Nottoli, Chairman, Board of Supervisors, Sacramento County, 700 H Street, Suite 2450, Sacramento, CA 95814 | Sacramento County, Department of Water Resources, 827 7th Street, Suite 301, Sacramento, CA 95814 | Jan. 10, 2018 | 060262
San Benito (FEMA Docket No.: B-1756) | City of Hollister (17-09-1234P) | The Honorable Ignacio Velazquez, Mayor, City of Hollister, 375 5th Street, Hollister, CA 95023 | Planning Department, 420 Hill Street, Building A, Hollister, CA 95023 | Jan. 8, 2018 | 060268
San Benito (FEMA Docket No.: B-1756) | Unincorporated Areas of San Benito County (17-09-1234P) | The Honorable Jaime De La Cruz, Chairman, Board of Supervisors, San Benito County, 481 4th Street, 1st Floor, Hollister, CA 95023 | San Benito County Department of Public Works, 3220 Southside Road, Hollister, CA 95023 | Jan. 8, 2018 | 060267
San Diego (FEMA Docket No.: B-1765) | City of Oceanside (17-09-0650P) | The Honorable Jim Wood, Mayor, City of Oceanside, 300 North Coast Highway, Oceanside, CA 92054 | City Hall, 300 North Coast Highway, Oceanside, CA 92054 | Feb. 12, 2018 | 060294
San Diego (FEMA Docket No.: B-1768) | City of Oceanside (18-09-0027X) | The Honorable Jim Wood, Mayor, City of Oceanside, 300 North Coast Highway, Oceanside, CA 92054 | City Hall, 300 North Coast Highway, Oceanside, CA 92054 | Feb. 27, 2018 | 060294
San Luis Obispo (FEMA Docket No.: B-1756) | Unincorporated Areas of San Luis Obispo County (16-09-3181P) | The Honorable John Peschong, Chairman, Board of Supervisors, San Luis Obispo County, 1055 Monterey Street Suite D430, San Luis Obispo, CA 93408 | San Luis Obispo County, Public Works Department, 976 Osos Street, Room 207, San Luis Obispo, CA 93401 | Jan. 11, 2018 | 060304
Santa Clara (FEMA Docket No.: B-1752) | City of Gilroy (16-09-2429P) | The Honorable Roland Velasco, Mayor, City of Gilroy, City Hall, 7351 Rosanna Street, Gilroy, CA 95020 | Public Works Department, 7351 Rosanna Street, Gilroy, CA 95020 | Jan. 8, 2018 | 060340
Santa Clara (FEMA Docket No.: B-1756) | City of San Jose (16-09-3074P) | The Honorable Sam Liccardo, Mayor, City of San Jose, 200 East Santa Clara Street, 18th Floor, San Jose, CA 95113 | Department of Public Works, 200 East Santa Clara Street, 5th Floor, San Jose, CA 95113 | Jan. 5, 2018 | 060349
Santa Clara (FEMA Docket No.: B-1752) | Unincorporated Areas of Santa Clara County (16-09-2429P) | The Honorable Dave Cortese, Chairman, Board of Supervisors, Santa Clara County, 70 West Hedding Street East Wing, 10th Floor, Santa Jose, CA 95110 | Santa Clara County, Office of Planning, 70 West Hedding Street, San Jose, CA 95110 | Jan. 8, 2018 | 060337
Florida: St. Johns (FEMA Docket No.: B-1756) | Unincorporated Areas of St Johns County (17-04-4604P) | The Honorable James K Johns, Chairman, St. Johns County Board of Commissioners, 500 San Sebastian View, St Augustine, FL 32084 | St. Johns County, Administration Building, 4020 Lewis Speedway, St. Augustine, FL 32084 | Jan. 12, 2018 | 125147
Idaho:
Ada (FEMA Docket No.: B-1756) | City of Eagle (17-10-1535P) | The Honorable Stan Ridgeway, Mayor, City of Eagle, City Hall, 660 East Civic Lane, Eagle, ID 83616 | City Hall, 660 East Civic Street, Eagle, ID 83616 | Jan. 16, 2018 | 160003
Ada (FEMA Docket No.: B-1756) | Unincorporated Areas of Ada County (17-10-1535P) | The Honorable David L Case, Chairman, Ada County Board of Commissioners, 200 West Front Street, 3rd Floor, Boise, ID 83702 | Ada County Courthouse, 200 Front West Street, Boise, ID 83702 | Jan. 16, 2018 | 160001
Canyon (FEMA Docket No.: B-1765) | Unincorporated Areas of Canyon County (17-10-1537P) | Mr. Tom Dale, Commissioner, Canyon County, 1115 Albany Street Room 350, Caldwell, ID 83605 | Canyon County Courthouse, 1115 Albany Street, Caldwell, ID 83605 | Jan. 31, 2018 | 160208
Teton (FEMA Docket No.: B-1768) | City of Victor (17-10-1027P) | The Honorable Jeff Potter, Mayor, City of Victor, 32 Elm Street, Victor, ID 83455 | City Hall, 32 Elm Street, Victor, ID 83455 | Feb. 9, 2018 | 160119
Teton (FEMA Docket No.: B-1768) | Unincorporated Areas of Teton County (17-10-1027P) | The Honorable Mark R. Ricks, Chairman, Teton County, Board of Commissioners, 150 Courthouse Drive, Driggs, ID 83422 | Teton County Courthouse, 150 Courthouse Drive, Driggs, ID 83422 | Feb. 9, 2018 | 160230
Illinois:
Madison (FEMA Docket No.: B-1760) | City of Wood River (17-05-1811P) | The Honorable Cheryl Maguire, Mayor, City of Wood River, 111 North Wood River Avenue, Wood River, IL 62095 | City Hall, 111 North Wood River Avenue, Wood River, IL 62095 | Feb. 9, 2018 | 170451
Will (FEMA Docket No.: B-1765) | Village of Mokena (17-05-6107P) | The Honorable Frank A Fleischer, Village President, Village of Mokena, 11004 Carpenter Street, Mokena, IL 60448 | Village Hall, 11004 Carpenter Street, Mokena, IL 60448 | Feb. 9, 2018 | 170705
Winnebago (FEMA Docket No.: B-1765) | Unincorporated Areas of Winnebago County (17-05-5139P) | The Honorable Frank Haney, Chairman, Winnebago County Board, Administration Building, 404 Elm Street, Room 533, Rockford, IL 61101 | Winnebago County Courthouse, 404 Elm Street, Rockford, IL 61101 | Jan. 30, 2018 | 170720
Winnebago (FEMA Docket No.: B-1765) | Village of Cherry Valley (17-05-5139P) | The Honorable Jim E. Claeyssen, Village President, Village of Cherry Valley, 806 East State Street, Cherry Valley, IL 61016 | Village Hall, 806 East State Street, Cherry Valley, IL 61016 | Jan. 30, 2018 | 170721
Iowa: Polk (FEMA Docket No.: B-1760) | Unincorporated Areas of Polk County (17-07-0912P) | Councilman Robert Brownell, Counselor, Polk County District 1, Polk County Administration Building, 111 Court Avenue, Suite 300, Des Moines, IA 50309 | Polk County Planning Division, 5885 Northeast 14th Street, Des Moines, IA 50313 | Jan. 16, 2018 | 190901
Kansas: Johnson (FEMA Docket No.: B-1756) | City of Overland Park (17-07-1247P) | The Honorable Carl Gerlach, Mayor, City of Overland Park, City Hall, 8500 Santa Fe Drive, Overland Park, KS 66212 | City Hall, 8500 Santa Fe Drive, Overland Park, KS 66212 | Jan. 5, 2018 | 200174
Michigan:
Oakland (FEMA Docket No : B-1768) | City of Farmington Hills (17-05-4122P) | The Honorable Kenneth Massey, Mayor, City of Farmington Hills, City Hall, 31555 West Eleven Mile Road, Farmington Hills, MI 48336 | City Hall, 31555 West Eleven Mile Road, Farmington Hills, MI 48336 | Feb. 23, 2018 | 260172
Oakland (FEMA Docket No.: B-1768) | City of Novi (17-05-0556P) | The Honorable Bob Gatt, Mayor, City of Novi, Civic Center, 45175 Ten Mile Road, Novi, MI 48375 | Civic Center, 45175 Ten Mile Road, Novi, MI 48375 | Feb. 23, 2018 | 260175
Oakland (FEMA Docket No.: B-1768) | City of Novi (17-05-4122P) | The Honorable Bob Gatt, Mayor, City of Novi, Civic Center, 45175 Ten Mile Road, Novi, MI 48375 | Civic Center, 45175 Ten Mile Road, Novi, MI 48375 | Feb. 23, 2018 | 260175
Minnesota:
Hennepin (FEMA Docket No.: B-1765) | City of Champlin (17-05-3893P) | The Honorable Ryan Karasek, Mayor, City of Champlin, City Hall, 11955 Champlin Drive, Champlin, MN 55316 | City Hall, Building Department, 11955 Champlin Road, Champlin, MN 55316 | Feb. 16, 2018 | 270153
Hennepin (FEMA Docket No.: B-1765) | City of Corcoran (17-05-3730P) | The Honorable Ron Thomas, Mayor, City of Corcoran, City Hall, 8200 County Road 116, Corcoran, MN 55340 | City Hall, 8200 County Road 116, Corcoran, MN 55340 | Feb. 9, 2018 | 270155
Stearns (FEMA Docket No.: B-1760) | City of Melrose (17-05-3040P) | The Honorable Joe Finken, Mayor, City of Melrose, 225 1st Street Northeast, Melrose, MN 56352 | Administration Office, 225 East 1st Street Northeast, Melrose, MN 56352 | Jan. 18, 2018 | 270450
Missouri:
Cass (FEMA Docket No.: B-1752) | City of Belton (17-07-0605P) | The Honorable Jeff Davis, Mayor, City of Belton, Belton City Hall, 506 Main Street, Belton, MO 64012 | City Hall Annex, 520 Main Street, Belton, MO 64012 | Jan. 2, 2018 | 290062
Clay (FEMA Docket No.: B-1768) | City of Gladstone (17-07-0895P) | The Honorable R.D. Mallams, Mayor, City of Gladstone, City Hall, 7010 North Holmes Street, Gladstone, MO 64118 | City Hall, 7010 North Holmes Street, Gladstone, MO 64118 | Feb. 15, 2018 | 290091
St. Charles (FEMA Docket No.: B-1760) | City of Saint Peters (17-07-0905P) | The Honorable Len Pagano, Mayor, City of Saint Peters, 1 Saint Peters Centre Boulevard, Saint Peters, MO 63376 | City Hall, 1 Saint Peters Centre Boulevard, Saint Peters, MO 63376 | Jan. 18, 2018 | 290319
Nevada:
Clark (FEMA Docket No.: B-1765) | City of Henderson (17-09-1773P) | The Honorable Debra March, Mayor, City of Henderson, City Hall, 240 South Water Street, Henderson, NV 89015 | Public Works Department, 240 South Water Street, Henderson, NV 89015 | Feb. 12, 2018 | 320005
Clark (FEMA Docket No.: B-1765) | City of Henderson (17-09-1937P) | The Honorable Debra March, Mayor, City of Henderson, City Hall, 240 South Water Street, Henderson, NV 89015 | Public Works Department, 240 South Water Street, Henderson, NV 89015 | Feb. 6, 2018 | 320005
Clark (FEMA Docket No.: B-1765) | City of Las Vegas (17-09-1166P) | The Honorable Carolyn B Goodman, Mayor, City of Las Vegas, City Hall, 495 South Main Street, Las Vegas, NV 89101 | Public Works Department, 400 Stewart Avenue, 4th Floor, Las Vegas, NV 89101 | Feb. 5, 2018 | 325276
New Jersey:
Bergen (FEMA Docket No.: B-1752) | Borough of New Milford (17-02-0405P) | The Honorable Ann Subrizi, Mayor, Borough of New Milford, New Milford Borough Hall, 930 River Road, New Milford, NJ 07646 | Borough Hall, 930 River Road, New Milford, NJ 07646 | Jan. 5, 2018 | 340054
Bergen (FEMA Docket No.: B-1752) | Township of Teaneck (17-02-0405P) | The Honorable Mohammed Hameeduddin, Mayor, Township of Teaneck, Teaneck Municipal Building, 818 Teaneck Road, Teaneck, NJ 07666 | Teaneck Municipal Building, 818 Teaneck Road, Teaneck, NJ 07666 | Jan. 5, 2018 | 340075
New York:
Suffolk (FEMA Docket No.: B-1752) | Town of Southold (17-02-1400P) | Mr. Scott A Russell, Town Supervisor, Town of Southold, 53095 Main Road, Southold, NY 11971 | Town Hall, 53095 Route 25, Southold, NY 11971 | Feb. 16, 2018 | 360813
Tioga (FEMA Docket No.: B-1752) | Town of Nichols (17-02-0953P) | Mr. Kevin K. Engelbert, Supervisor, Town of Nichols, P.O. Box 359, Nichols, NY 13812 | Town Hall, 54 East River Road, Nichols, NY 13812 | Feb. 16, 2018 | 360837
Tioga (FEMA Docket No.: B-1752) | Village of Nichols (17-02-0953P) | The Honorable Leslie Pelotte, Mayor, Village of Nichols, P.O. Box 142, Nichols, NY 13812 | Village Hall, 17 Kirby Street, Nichols, NY 13812 | Feb. 16, 2018 | 360838
Ohio:
Lucas (FEMA Docket No.: B-1765) | City of Toledo (17-05-3511P) | The Honorable Paula Hicks-Hudson, Mayor, City of Toledo, 1 Government Center Suite 2200, Toledo, OH 43604 | Department of Inspection, 1 Government Center Suite 1600, Toledo, OH 43604 | Feb. 9, 2018 | 395373
Lucas (FEMA Docket No.: B-1765) | Unincorporated Areas of Lucas County (17-05-3511P) | Mr. Pete Gerken, President, Board of County Commissioners, 1 Government Center Suite 800, Toledo, OH 43604 | Lucas County Engineer's Office, 1049 South McCord Road, Holland, OH 43528 | Feb. 9, 2018 | 390359
Oregon: Jackson (FEMA Docket No.: B-1765) | Unincorporated Areas of Jackson County (17-10-1310P) | Ms. Colleen Roberts, Commissioner, Jackson County, Jackson County Courthouse, 10 South Oakdale Avenue, Room 214, Medford, OR 97501 | Jackson County Development Services, 10 South Oakdale Avenue, Medford, OR 97501 | Jan. 22, 2018 | 415589
Texas:
Collin and Dallas (FEMA Docket No.: B-1768) | City of Richardson (17-06-1790P) | The Honorable Paul Voelker, Mayor, City of Richardson, Richardson Civic Center/City Hall, 411 West Arapaho Road, Richardson, TX 75080 | City Hall, 411 West Arapaho Road Room 204, Richardson, TX 75080 | Feb. 22, 2018 | 480184
Dallas (FEMA Docket No.: B-1752) | City of Coppell (17-06-2181P) | The Honorable Karen Hunt, Mayor, City of Coppell, 255 East Parkway Boulevard, Coppell, TX 75019 | City Engineering Department, 255 Parkway Boulevard, Coppell, TX 75019 | Jan. 2, 2018 | 480170
Dallas (FEMA Docket No.: B-1768) | City of Garland (17-06-1790P) | The Honorable Douglas Athas, Mayor, City of Garland, William E. Dollar Municipal Building, 200 North 5th Street, Garland, TX 75040 | Main Street Municipal Building, 800 Main Street, Garland, TX 75040 | Feb. 22, 2018 | 485471
Denton (FEMA Docket No.: B-1765) | City of Carrollton (17-06-3083P) | The Honorable Kevin Falconer, Mayor, City of Carrollton, P.O. Box 110535, Carrollton, TX 75011 | City Hall, 1945 East Jackson Road, Carrollton, TX 75006 | Feb. 12, 2018 | 480167
Denton (FEMA Docket No.: B-1765) | City of Lewisville (17-06-3083P) | The Honorable Rudy Durham, Mayor, City of Lewisville, P.O. Box 299002, Lewisville, TX 75029 | City Hall, 1197 West Main Street, Lewisville, TX 75067 | Feb. 12, 2018 | 480195
Washington:
King (FEMA Docket No.: B-1752) | City of North Bend (17-10-0730P) | The Honorable Kenneth G. Hearing, Mayor, City of North Bend, 211 Main Avenue North, North Bend, WA 98045 | Planning Department, 126 East 4th Street, North Bend, WA 98045 | Jan. 8, 2018 | 530085
King (FEMA Docket No.: B-1752) | Unincorporated Areas of King County (17-10-0730P) | The Honorable Dow Constantine, County Executive, King County, 401 5th Avenue, Suite 800, Seattle, WA 98104 | Department of Water and Land Resources, 201 South Jackson Street, Suite 600, Seattle, WA 98055 | Jan. 8, 2018 | 530071
Wisconsin:
Milwaukee (FEMA Docket No.: B-1760) | Village of Greendale (17-05-5076P) | The Honorable James Birmingham, President, Village of Greendale, 6500 Northway Street, Greendale, WI 53129 | Village Hall, 6500 Northway Street, Greendale, WI 53129 | Jan. 19, 2018 | 550276
Outagamie (FEMA Docket No.: B-1768) | City of Appleton (17-05-3854P) | The Honorable Timothy Hanna, Mayor, City of Appleton, City Hall, 100 North Appleton Street, Appleton, WI 54911 | City Hall, 100 North Appleton Street, Appleton, WI 54911 | Feb. 22, 2018 | 480184
Washington (FEMA Docket No.: B-1765) | City of Hartford (17-05-4823P) | The Honorable Joseph Dautermann, Mayor, City of Hartford, 109 North Main Street, Hartford, WI 53027 | City Hall, 109 North Main Street, Hartford, WI 53027 | Feb. 7, 2018 | 550473
Washington (FEMA Docket No.: B-1765) | Unincorporated Areas of Washington County (17-05-4823P) | Mr. Rick J. Gundrum, Chairperson, Washington County, 432 East Washington Street, Suite 3029, West Bend, WI 53095 | Washington County Government Center, 432 East Washington Street, West Bend, WI 53095 | Feb. 7, 2018 | 550471

[FR Doc. 2018-06977 Filed 4-4-18; 8:45 am]

BILLING CODE 9110-12-P